DEPARTMENT OF STATE

[Public Notice 10556]

Notice of Availability of the Draft Supplemental Environmental Impact Statement for the Proposed Keystone XL Pipeline Mainline Alternative Route in Nebraska; Public Meeting Announcement

ACTION: Notice; solicitation of comments.

SUMMARY: The U.S. Department of State (Department) announces the availability for public review and comment of the Draft Supplemental Environmental Impact Statement (Draft SEIS) for the Proposed Keystone XL Pipeline Mainline Alternative Route (MAR) in Nebraska. The Draft SEIS—consistent with the National Environmental Policy Act (NEPA) of 1969—analyzes the potential environmental impacts of the Keystone XL MAR. In connection with the publication of the Draft SEIS, the Department will hold a public meeting in Lincoln, Nebraska on Tuesday, October 9.

DATES: The Department invites members of the public, government agencies, tribal governments, and all other interested parties to comment on the Draft SEIS for the Proposed Keystone XL MAR during the 45-day public comment period which ends on November 8, 2018. Comments provided by agencies and organizations should list a designated contact person. All comments received during the public comment period may be publicized. Comments will be neither private nor edited to remove either identifying or contact information. Commenters should omit information that they do not want disclosed. Any party who will either solicit or aggregate other people's comments should convey this cautionary message.

The Department will hold a public meeting on Tuesday, October 9, 2018, at the Lincoln Marriott Cornhusker Hotel, 333 South 13th Street, Lincoln, Nebraska 68508, from 4:30 p.m. to 7:30 p.m. CDT. Further information about the meeting will be available at https://www.keystonepipeline-xl.state.gov.

ADDRESSES: Persons with access to the internet may comment on this notice by going to www.Regulations.gov. You can search for the document by entering “Docket Number: DOS-2018-0045” in the Search field. Then click the “Comment Now” button and complete the comment form.

FOR FURTHER INFORMATION CONTACT: Marko Velikonja, Keystone XL Program Manager, Office of Environmental Quality and Transboundary Issues, U.S. Department of State, 2201 C Street NW, Room 2726, Washington, DC 20520. (202) 647-4828, VelikonjaMG@state.gov.

SUPPLEMENTARY INFORMATION: On January 26, 2017, TransCanada Keystone Pipeline, L.P. (TransCanada) resubmitted its 2012 Presidential permit application for the border facilities for the proposed Keystone XL pipeline. The Under Secretary of State for Political Affairs determined that issuance of a Presidential permit to TransCanada to construct, connect, operate, and maintain pipeline facilities at the northern border of the United States to transport crude oil from Canada to the United States would serve the national interest. Accordingly, on March 23, 2017, the Under Secretary issued a Presidential permit to TransCanada for the Keystone XL Pipeline border facilities. Subsequently, on November 20, 2017, the Nebraska Public Service Commission approved the Mainline Alternative Route for that pipeline in the State of Nebraska. TransCanada's application to the Bureau of Land Management for a right-of-way remains pending with that agency.

On May 25, 2018, the Department issued a Notice of Intent to Prepare an Environmental Assessment for the Proposed Keystone XL Pipeline Mainline Alternative Route in Nebraska (83 FR 24383), which provided for a 30-day public scoping period. On July 30, 2018, the Department issued a Notice of Availability of the Draft Environmental Assessment for the Proposed Keystone XL Pipeline Mainline Alternative Route in Nebraska (83 FR 36659), which provided for a 30-day public comment period. On September 17, 2018, the Department issued a Notice of Intent to Prepare a Supplemental Environmental Impact Statement for the Proposed Keystone XL Pipeline Mainline Alternative Route in Nebraska (83 FR 46989). The Department will consider comments received during the Draft Environmental Assessment comment period in the Final SEIS document.

Availability of the Draft SEIS: Copies of the Draft SEIS have been distributed to state and governmental agencies, tribal governments, and other interested parties. Printed copies of the document may be obtained by visiting the libraries below or by contacting Marko Velikonja at the above address. The Draft SEIS is available at https://keystonepipeline-xl.state.gov, and at the following libraries:

Clarkson Memorial Library, 318 Pine Street, Clarkson, NE 68629.

Columbus Public Library, 2504 14th Street, Columbus, NE 68601.

Crete Public Library, 305 East 13th Street, Crete, NE 68333.

David City Public Library, 399 N 5th Street, David City, NE 68632.

Fairbury Public Library, 601 7th Street, Fairbury, NE 68352.

Neligh Public Library, 710 M Street, Neligh, NE 68756.

Norfolk Public Library, 308 West Prospect Avenue, Norfolk, NE 68701.

Seward Memorial Library, 233 South 5th Street, Seward, NE 68434.

Stanton Public Library, 1009 Jackpine Street, Stanton, NE 68779.

Brian P. Doherty,
Director, Office of Environmental Quality and Transboundary Issues, Department of State.

[FR Doc. 2018-20641 Filed 9-21-18; 8:45 am]

BILLING CODE 4710-09-P